DEPARTMENT OF THE INTERIOR

Fish and Wildlife Service

[FWS-R6-ES-2017-N113; FF06E11000-178-FXES111606CSAGE]

Enhancement of Survival Permit Application; Draft Candidate Conservation Agreement With Assurances for the Greater Sage-Grouse and Four Grassland Songbirds in Montana; Draft Environmental Assessment

AGENCY: Fish and Wildlife Service, Interior.

ACTION: Notice of availability; request for comments.

SUMMARY: We, the U.S. Fish and Wildlife Service, are making available for public comment an application from The Nature Conservancy (TNC) for an enhancement of survival permit (permit) under the Endangered Species Act for take of five species associated with implementation of a candidate conservation agreement with assurances (CCAA) in Montana. The intent of the CCAA is to provide private landowners in the coverage area with the opportunity to voluntarily conserve covered species and their habitats while carrying out their operations in a manner that would contribute to precluding the need to list the covered species. Pursuant to the National Environmental Policy Act, we have prepared a draft environmental assessment (EA) that analyzes the potential impacts of issuance of the permit and implementation of the proposed CCAA, as well as two alternatives to the proposed action in the EA. The permit application, the draft CCAA, and draft EA are available for public review, and we seek public comment on these documents and potential issuance of the permit.

DATES: Written comments must be submitted by October 25, 2017.

ADDRESSES: To request further information or submit written comments, please use the following methods, and note that your information request or comments are in reference to the Montana CCAA.

○ Internet: Documents may be viewed on the Internet at https://www.fws.gov/greatersagegrouse/news.php.

○ U.S. Mail: Field Supervisor, Montana Ecological Services Field Office, U.S. Fish and Wildlife Service, 585 Shephard Way, Suite 1, Helena, MT 59601.

○ Email: MT_CCAA@fws.gov. Include “MT CCAA” in the subject line of the message.

○ Fax: 406-449-5339, Attn: MT CCAA.

○ In-Person Viewing or Pickup: Documents will be available for public inspection by appointment during normal business hours at the U.S. Fish and Wildlife Service, Montana Ecological Services Field Office, U.S. Fish and Wildlife Service, 585 Shephard Way, Suite 1, Helena, MT 59601.

FOR FURTHER INFORMATION CONTACT: Field Supervisor, Montana Ecological Services Field Office (see ADDRESSES), telephone: 406-449-5225. If you use a telecommunications device for the deaf, please call the Federal Relay Service at 800-877-8339.

SUPPLEMENTARY INFORMATION: We, the U.S. Fish and Wildlife Service (Service), received and make available for comment an application from The Nature Conservancy (TNC). The application is for an enhancement of survival permit (permit) under section 10(a)(1)(A) of the Endangered Species Act of 1973, as amended (16 U.S.C. 1531 et seq.; ESA), for potential take of five species associated with implementation of a candidate conservation agreement with assurances (CCAA) in Montana (coverage area). The coverage area would be the range of the five species on privately owned lands in Montana.

The CCAA would cover and include conservation measures for the greater sage-grouse (Centrocercus urophasianus), Baird's sparrow (Ammodramus bairdii), chestnut-collared longspur (Calcarius ornatus), McCown's longspur (Rhynchophanes mccownii), and Sprague's pipit (Anthus spragueii). The intent of the CCAA is to provide ranchers and agriculture producers in the coverage area with the opportunity to voluntarily conserve the covered species and their habitat, while carrying out their operations in a manner that would provide net conservation benefit to the species.

Pursuant to the National Environmental Policy Act (42 U.S.C. 4321 et seq.; NEPA), we have prepared a draft environmental assessment (EA) that analyzes the potential impacts of issuance of the permit and implementation of the proposed CCAA, as well as two alternatives to the proposed action. The permit application, draft CCAA, and EA are available for public review, and we seek public comment on these documents and potential issuance of the permit.

Background Information

A CCAA is an agreement with the Service in which private and other non-Federal landowners voluntarily agree to undertake management activities and conservation efforts on their properties to enhance, restore, or maintain habitat to benefit species that are proposed for listing under the ESA, that are candidates for listing, or that may become candidates. The Service works with these partners to identify threats to candidate species, plan the measures needed to address the threats and conserve these species, identify willing landowners, develop agreements, and design and implement conservation measures and monitor their effectiveness.

If we approve this CCAA, we will issue an associated enhancement of survival permit under section 10(a)(1)(A) of the ESA that authorizes incidental take resulting from covered activities should any of the five covered species addressed in the CCAA become listed. Through the CCAA and permit, we also provide assurances to participating landowners that we will not impose additional land, water, or financial commitments, or restrictions on land, water, or resource use, as a result of their efforts to attract or increase the numbers or distribution of a species on their properties if that species becomes listed under the ESA in the future. Application requirements and issuance criteria for enhancement of survival permits through a CCAA are found in 50 CFR 17.22(d) and 17.32(d), as well as in 50 CFR part 13.

Proposed Action

Under the proposed programmatic CCAA, enrolled landowners in the CCAA (participants) would implement conservation measures that avoid, minimize, and mitigate impacts to the covered species and their habitats from ongoing grazing and range management activities on enrolled lands. The Service would issue the permit to TNC, which would administer the CCAA and enroll the participants. The CCAA would be in effect for 20 years. The covered area would encompass the non-Federal lands within the range of the covered species in Montana.

With issuance of the enhancement of survival permit, the Service would provide TNC and the participants assurances that, should any of the covered species be listed, no further commitments or restrictions than those they committed to under the CCAA would be imposed, as long as the CCAA is properly implemented. Furthermore, if any of the covered species are listed, the permit would provide TNC and individuals TNC enrolls in the CCAA with incidental take authorization. Participants would receive take authorization through their certificates of inclusion under the permit. The permit would become effective on the effective date of a listing of the covered species as endangered or threatened and would continue through the end of the CCAA term.

The Secretary of the Interior has delegated to the Service the authority to approve or deny a section 10(a)(1)(A) permit in accordance with the ESA. To act on TNC's permit application, we must determine that the CCAA meets the issuance criteria specified in the ESA and at 50 CFR 17.22 and 17.32, as well as at 50 CFR part 13. These criteria include a finding that the proposed CCAA complies with the requirements of our CCAA Policy (81 FR 951646; December 27, 2016).

National Environmental Policy Act Compliance

The issuance of a section 10(a)(1)(A) permit is a Federal action subject to NEPA compliance, including the Council on Environmental Quality regulations for implementing the procedural provisions of NEPA (40 CFR 1500-1508). The draft CCAA and application for the enhancement of survival permit are not eligible for categorical exclusion under NEPA. We have prepared a draft EA to analyze the direct, indirect, and cumulative impacts of the CCAA on the quality of the human environment and other natural resources. In compliance with NEPA, we analyzed the impacts of implementing the CCAA, issuance of the permit, and a reasonable range of alternatives in the draft EA. Based on these analyses and any new information resulting from public comment on the proposed action, we will determine if issuance of the permit would cause any significant impacts to the human environment. After reviewing public comments, we will evaluate whether the proposed action and alternatives in the draft EA are adequate to support a finding of no significant impact under NEPA. We now make the draft EA available for public inspection online or in person at the Service offices listed in ADDRESSES.

Public Comments

You may submit your comments and materials by one of the methods listed in ADDRESSES. We request data, information, opinions, or suggestions from the public, other concerned governmental agencies, the scientific community, Tribes, industry, or any other interested party on our proposed permit action. We particularly seek comments on the following: (1) Biological information and relevant data concerning the covered species; (2) current or planned activities in the subject area and their possible impacts on the covered species; (3) identification of any other environmental issues that should be considered with regard to the proposed permit action; and (4) information regarding the adequacy of the draft CCAA pursuant to the requirements for permits at 50 CFR parts 13 and 17.

Public Availability of Comments

All comments and materials we receive become part of the public record associated with this action. Before including your address, phone number, email address, or other personally identifiable information (PII) in your comments, you should be aware that your entire comment—including your PII—may be made publicly available at any time. While you can ask us in your comment to withhold your PII from public review, we cannot guarantee that we will be able to do so. Comments and materials we receive, as well as supporting documentation we use in preparing the EA, will be available for public inspection by appointment, during normal business hours, at our Montana Field Office (see ADDRESSES).

Next Steps

After completion of the EA based on consideration of public comments, we will determine whether adoption of the proposed CCAA warrants a finding of no significant impact or whether an environmental impact statement should be prepared. We will evaluate the proposed CCAA as well as any comments we receive, to determine whether implementation of the proposed CCAA would meet the requirements for issuance of a permit under section 10(a)(1)(A) of the ESA. We will also evaluate whether the proposed permit action would comply with section 7 of the ESA by conducting an intra-Service section 7 consultation. We will consider the results of this consultation, in combination with the above findings, in our final analysis to determine whether or not to issue a permit to TNC. We will not make our final decision until after the end of the 30-day public comment period, and we will fully consider all comments we receive during the public comment period.

Authority: We provide this notice in accordance with the requirements of section 10 of the ESA (16 U.S.C. 1531 et seq.) and NEPA (42 U.S.C. 4321 et seq.) and their implementing regulations (50 CFR 17.22, 40 CFR 1506.6, and 43 CFR Part 46, respectively).

Dated: September 11, 2017.
Michael Thabault,
Assistant Regional Director—Ecological Services, Mountain-Prairie Region, U.S. Fish and Wildlife Service, Lakewood, Colorado.

[FR Doc. 2017-20373 Filed 9-22-17; 8:45 am]

BILLING CODE 4333-15-P